DEPARTMENT OF ENERGY

Federal Energy Regulatory Commission

[Docket No. CP06-378-000]

Minnesota Energy Resources Corporation; Notice of Filing

June 21, 2006.

Take notice that on May 31, 2006, Minnesota Energy Resources Corporation (MERC) filed an application pursuant to 18 CFR 284.224 and 284.123(b)(2) of the Commission's regulations, for a limited jurisdiction blanket certificate authorizing it to engage in non-discriminatory sales and/or transportation of natural gas subject to the jurisdiction of the Commission through intrastate facilities in the state of Minnesota and for approval of the rates for such service. This certificate is needed so that MERC can sell and transport to Aquila, Inc. (Aquila) a local distribution company with a service territory in Iowa. Gas transported and sold to Aquila will be delivered to 11 small and residential customers in Silver Lake, Iowa. The annual sales to Aquila will be approximately 11,000 therms. In order to permit MERC to close on its purchase of the Minnesota facilities and initiate service thereunder, MERC requests expedited Commission approval of the certificate application and rate proposal on or before July 1, 2006 as described in its application which is on file with the Commission and open for public inspection.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time June 26, 2006.

Magalie R. Salas,
Secretary.

[FR Doc. E6-10485 Filed 7-5-06; 8:45 am]

BILLING CODE 6717-01-P